FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 2794F.

Name: Florida Overseas Services, Inc.

Address: 7236 NW 70th Street, Miami, FL 33166.

Date Revoked: March 21, 2002.

Reason: Failed to maintain a valid bond.

License Number: 3024F.

Name: S.A. Chiarella dba S.A. Chiarella Forwarding Co.

Address: 1650 W. Linda Vista Drive, Suite 107, San Marcos, CA 90269.

Date Revoked: March 13, 2002.

Reason: Failed to maintain a valid bond.

Sandra L. Kusumoto,
Director, Bureau of Consumer Complaints and Licensing.

[FR Doc. 02-8721 Filed 4-9-02; 8:45 am]

BILLING CODE 6730-01-P